DEPARTMENT OF EDUCATION

Office of Special Education and Rehabilitative Services; National Institute on Disability and Rehabilitation Research; Final Funding Priorities for Research and Training Centers and Notice Inviting Applications for Fiscal Year (FY) 2000

AGENCY: Department of Education.

ACTION: Correction Notice.

SUMMARY: On May 18, 2000 a notice of final funding priorities and a notice inviting applications for new awards for three Rehabilitation Research and Training Centers (RRTCs) for FY 2000 were published in the Federal Register (65 FR 31752, 31757).

The absolute priority for the Improving Services and Supports for Individuals with Long-Term Mental Illness (84.133B-7) shown on page 31755 was published as incomplete. This notice corrects the absolute priority to include additional requirements and a changed point value for the selection criteria. It is corrected to read:

In carrying out these purposes, the Center must:

(1) Develop measures that can be applied to evaluate self-determination activities in terms of rehabilitation outcomes, quality of services, and availability of community resources;

(2) Identify and assess self-determination direction theories, models, and activities, as well as the barriers to participation in self-determination activities for individuals with disabilities;

(3) Develop and evaluate management tools to enable service providers to support self-determination;

(4) Develop, conduct, and evaluate, training on self-determination and consumer choice to improve understanding and support of self-determination;

(5) Identify factors that prevent access and expanded use of technology to enhance self-determination;

(6) Identify or develop and evaluate self-determination models that integrate technology into activities and services that support self-determination and assess consumer satisfaction and benefits;

(7) Identify and evaluate the extent of knowledge and experience that service providers (e.g., rehabilitation counselors, therapists, job coaches, psychiatrists and psychologists, and other service providers) have using technology to support self-determination; and

(8) Assess policies of service providers and payers in terms of their implications for fostering or impeding self-determination, and identify strategies for policy improvements.

In addition to the activities proposed by the applicant to carry out these purposes, the RRTC must:

(1) Conduct in the third year of the grant, a state-of the-science conference on self-determination for persons with significant and persistent mental illness and publish a comprehensive report in the fourth year of the grant; and

(2) Address in its research the specific needs of minority populations with LTMI.

This notice corrects the “Maximum Award Amount Per Year” as shown on page 31758 for the Improved Management of CIL Programs and Services (84.133B-1). The published maximum award amount per year reads “$500,000”. It is corrected to read “$600,000”. This notice also corrects the “Maximum Award Amount Per Year” for Improving Services and Supports for Individuals with Long-Term Mental Illness (84.133B-7). The published maximum award amount per year reads “$550,000”. It is corrected to read “$750,000”.

The published point total in the selection criteria for (h) Collaboration as shown on page 31759 reads “(2 points total)”. It is corrected to read “(3 points total)”.

FOR FURTHER INFORMATION CONTACT: Donna Nangle. Telephone: (202) 205-5880. Individuals who use a telecommunications device for the deaf (TDD) may call the TDD number at (202) 205-9136. Internet: Donna_Nangle@ed.gov.

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the preceding sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Applicable Program Regulations: 34 CFR Part 350.

Program Authority: 29 U.S.C. 760-762.

(Catalog of Federal Domestic Assistance Number: 84.133B, Rehabilitation Research and Training Centers)
Dated: May 31, 2000.
Judith E. Heumann,
Assistant Secretary for Special Education and Rehabilitative Services.

[FR Doc. 00-14386 Filed 6-7-00; 8:45 am]

BILLING CODE 4000-01-U